COMMISSION ON CIVIL RIGHTS

Notice of Public Meeting of the New York Advisory Committee to the U.S. Commission on Civil Rights

AGENCY: U.S. Commission on Civil Rights.

ACTION: Notice of virtual forum.

SUMMARY: Notice is hereby given, pursuant to the provisions of the rules and regulations of the U.S. Commission on Civil Rights (Commission) and the Federal Advisory Committee Act, that the New York Advisory Committee (Committee) to the U.S. Commission on Civil Rights will hold a forum via web conference on the New York child welfare system and its impact on Black children and families. The purpose of the forum is to hear testimony from impacted individuals regarding their experiences with the New York child welfare system. If you are an impacted individual who wishes to offer a comment at this forum, please complete the following form by Tuesday, April 18, 2023, to ensure you are added to the list of individuals who are interested in speaking: https://www.surveymonkey.com/r/9TPBK63.

DATES: Wednesday, April 19, 2023, from 1 p.m.-3 p.m. Eastern Time.

ADDRESSES: The meeting will be held via Zoom.

Registration Link (Audio/Visual): https://tinyurl.com/2b2h43ny.

Join by Phone (Audio Only): 1-833-435-1820 USA Toll-Free; Meeting ID: 161 071 0272#.

FOR FURTHER INFORMATION CONTACT: Mallory Trachtenberg, DFO, at mtrachtenberg@usccr.gov or 1-202-809-9618.

SUPPLEMENTARY INFORMATION: Committee meetings are available to the public through the conference link above. Any interested member of the public may listen to the meeting. An open comment period will be provided to allow members of the public to make a statement as time allows. Callers can expect to incur regular charges for calls they initiate over wireless lines, according to their wireless plan. The Commission will not refund any incurred charges. Callers will incur no charge for calls they initiate over land-line connections to the toll-free telephone number. Individuals who are deaf, deafblind, and hard of hearing may also follow the proceedings by first calling the Federal Relay Service at 1-800-877-8339 and providing the Service with the conference call number and meeting ID number.

Members of the public are entitled to submit written comments; the comments must be received in the regional office within 30 days following the meeting. Written comments may be emailed to Mallory Trachtenberg at mtrachtenberg@usccr.gov.

Records generated from this meeting may be inspected and reproduced at the Regional Programs Coordination Unit Office, as they become available, both before and after the meeting. Records of the meetings will be available via www.facadatabase.gov under the Commission on Civil Rights, New York Advisory Committee link. Persons interested in the work of this Committee are directed to the Commission's website, http://www.usccr.gov, or may contact the Regional Programs Coordination Unit at the above email.

Agenda

I. Welcome Remarks

II. Forum of Impacted Individuals

Please see the times listed to know when to join to share comments:

1:10 p.m.-1:55 p.m. Children/Youth

1:55 p.m.-2:40 p.m. Parents/Family Members

2:40 p.m.-2:55 p.m. Caseworkers, Foster or Adoptive Parents, and other interested individuals

III. Closing Remarks

IV. Adjournment

Dated: March 17, 2023.
David Mussatt,
Supervisory Chief, Regional Programs Unit.

[FR Doc. 2023-05930 Filed 3-22-23; 8:45 am]

BILLING CODE P